COMMODITY FUTURES TRADING COMMISSION

Agency Information Collection Activities Under OMB Review

AGENCY: Commodity Futures Trading Commission.

ACTION: Notice.

SUMMARY: In compliance with the Paperwork Reduction Act, this notice announces that the Information Collection Request (ICR) abstracted below has been forwarded to the Office of Management and Budget (OMB) for review and comment. The ICR describes the nature of the information collection and its expected costs and burden.

DATES: Comments must be submitted on or before March 26, 2014.

ADDRESSES: Comments may be submitted to OMB within 30 days of the notice's publication. Comments, identified by “Part 41 Relating to Security Futures Products (OMB Control No. 3038-0059),” should be mailed to the Office of Information and Regulatory Affairs, Office of Management and Budget, Attention: Desk Officer for the Commodity Futures Trading Commission, 725 17th Street NW., Washington, DC 20503.

Comments may be also be submitted, regarding the burden estimated or any other aspect of the information collection, including suggestions for reducing the burden, identified by “Part 41 Relating to Security Futures Products (OMB Control No. 3038-0059),” by any of the following methods:

• Agency Web site, via its Comments Online process: http://comments.cftc.gov. Follow the instructions for submitting comments through the Web site.

• Mail: Send to Melissa D. Jurgens, Secretary, Commodity Futures Trading Commission, 1155 21st Street NW., Washington, DC 20581.

• Hand Delivery/Courier: Same as Mail, above.

• Federal eRulemaking Portal: http://www.regulations.gov/search/index.jsp. Follow the instructions for submitting comments.

All comments must be submitted in English, or if not, accompanied by an English translation. Comments will be posted as received to http://www.cftc.gov. You should submit only information that you wish to make available publicly. If you wish the Commission to consider information that is exempt from disclosure under the Freedom of Information Act, a petition for confidential treatment of the exempt information may be submitted according to the procedures set forth in section 145.9 of the Commission's regulations.¹

¹ Commission regulations referred to herein are found at 17 CFR Ch. 1 (2010). Commission regulations are accessible on the Commission's Web site, www.cftc.gov.

The Commission reserves the right, but shall have no obligation, to review, pre-screen, filter, redact, refuse or remove any or all of your submission from www.cftc.gov that it may deem to be inappropriate for publication, such as obscene language. All submissions that have been redacted or removed that contain comments on the merits of the rulemaking will be retained in the public comment file and will be considered as required under the Administrative Procedure Act and other applicable laws, and may be accessible under the Freedom of Information Act.

FOR FURTHER INFORMATION CONTACT: David Steinberg, Commodity Futures Trading Commission, 202-418-5102, FAX: 202-418-5527, email: dsteinberg@cftc.gov, and refer to OMB Control No. 3038-0059. This contact can also provide a copy of the ICR.

SUPPLEMENTARY INFORMATION: Title: Part 41 Relating to Security Futures Products (OMB Control No. 3038-0059). This is a request for extension of a currently approved information collection.

Abstract: Section 4d(c) of the Commodity Exchange Act (CEA), 7 U.S.C. 6d(c), requires the Commodity Futures Trading Commission (CFTC) to consult with the Securities and Exchange Commission (SEC) and issue such rules, regulations, or orders as are necessary to avoid duplicative or conflicting regulations applicable to firms that are fully registered with the SEC as brokers or dealers (broker-dealers) and the CFTC as futures commission merchants (FCMs) involving provisions of the CEA that pertain to the treatment of customer funds. The CFTC, jointly with the SEC, issued regulations requiring such dually-registered firms to make choices as to how its customers' transactions in security futures products (SFP) will be treated, either as securities transactions held in a securities account or as futures transactions held in a futures account. How an account is treated is important in the unlikely event of the insolvency of the firm. Only securities accounts receive insurance protection under provisions of the Securities Investor Protection Act. By contrast, only futures accounts are subject to the protections provided by the segregation requirements of the CEA.

An agency may not conduct or sponsor, and a person is not required to respond to, a collection of information unless it displays a currently valid OMB control number. The OMB control numbers for the CFTC's regulations were published on December 30, 1981. See 46 FR 63035 (Dec. 30, 1981). The Federal Register notice with a 60-day comment period soliciting comments on this collection of information was published on December 23, 2013 (78 FR 77439).

Burden Statement: The respondent burden for this collection is estimated to average .721 hours per response. These estimates include the time needed to review instructions; develop, acquire, install, and utilize technology and systems for the purposes of collecting, validating, and verifying information, processing and maintaining information and disclosing and providing information; adjust the existing ways to comply with any previously applicable instructions and requirements; train personnel to be able to respond to a collection of information; and transmit or otherwise disclose the information.

Respondents/Affected Entities: 144.

Estimated number of responses: 2,975.

Estimated total annual burden on respondents: 2,146 hours.

Frequency of collection: On occasion.

ATTACHMENT A

Part 41—Security Futures Products
[OMB collection No. 3038-0059]
| Estimated number of respondents or recordkeepers per year | Reports annually by each respondent | Total annual responses | Estimated average number of hours per response | Estimated total number of hours of annual burden in fiscal year
Reporting
41.3 Application for exemption by intermediaries | 5 | 1 | 5 | 25 | 125
41.23(a)(1)-(6) and 41.23(b) Listing of SFPs | 3 | 140 | 420 | 2 | 840
41.24(a)(1)-(5) and 41.24(b) Rule amendments | 3 | 8 | 24 | 2 | 48
41.23(a)(7) and 41.24(a)(6) Requests for confidential treatment | 3 | .30 | .90 | 2 | 1.80
41.27(c) Rules prohibiting exemptions | 1 | 1 | 1 | 2 | 2
41.27(e) Rules permitting exemptions | 1 | 1 | 1 | 2 | 2
41.31 SFPCM designation (one time only) | 1 | 1 | 1 | 5 | 5
41.32 SFPCM continuing obligations | 3 | 20 | 60 | 4 | 240
41.33 Application for exemption by SFPCM | 1 | 1 | 1 | 40 | 40
41.41 FCM/B-D disclosure | 60 | 40 | 2,400 | .25 | 600
41.49 Margin rule changes | 3 | .30 | .90 | 2 | 1.80
Subtotal Reporting Requirements | 84 |  | 2,914.80 |  | 1,905.60
Recordkeeping
41.41(a)(2) Handling of customer accounts | 60 | 1 | 60 | 4 | 240
Subtotal Recordkeeping Requirements | 60 | 1 | 60 | 4 | 240
TOTAL REPORTING AND RECORDKEEPING | 144 |  | 2,974.80 | 0.72 | 2,145.60

Authority: 44 U.S.C. 3501 et seq.

Dated: February 18, 2014.
Christopher J. Kirkpatrick,
Deputy Secretary of the Commission.

[FR Doc. 2014-03788 Filed 2-21-14; 8:45 am]

BILLING CODE 6351-01-P